DEPARTMENT OF THE INTERIOR

Bureau of Land Management

[LLWY922000-L13200000-EL0000, WYW180006]

Notice of Invitation To Participate; Coal Exploration License Application WYW180006, WY

AGENCY: Bureau of Land Management, Interior.

ACTION: Notice.

SUMMARY: Pursuant to the Mineral Leasing Act of 1920, as amended by the Federal Coal Leasing Amendments Act of 1976, and to Bureau of Land Management (BLM) regulations, all interested parties are hereby invited to participate with Peabody Caballo Mining, LLC, on a pro rata cost-sharing basis, in its program for the exploration of coal deposits owned by the United States in Campbell County, Wyoming.

DATES: This notice of invitation will be published in the Gillette News-Record once each week for 2 consecutive weeks beginning the week of June 1, 2011, and in the Federal Register. Any party electing to participate in this exploration program must send written notice to both the BLM and Peabody Caballo Mining, LLC, as provided in the ADDRESSES section below, no later than 30 days after publication of this invitation in the Federal Register.

ADDRESSES: Copies of the exploration plan are available for review during normal business hours in the following offices (case file number WYW180006): BLM, Wyoming State Office, 5353 Yellowstone Road, P.O. Box 1828, Cheyenne, Wyoming 82003; and, BLM, High Plains District Office, 2987 Prospector Circle, Casper, Wyoming 82604. The written notice should be sent to the following addresses: Peabody Caballo Mining, LLC, Attn: James G. Barbour, Caller Box 3034, Gillette, Wyoming 82717, and the BLM, Wyoming State Office, Branch of Solid Minerals, Attn: Joyce Gulliver, P.O. Box 1828, Cheyenne, Wyoming 82003.

FOR FURTHER INFORMATION CONTACT: Joyce Gulliver, Land Law Examiner, at 307-775-6208. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Peabody Caballo Mining, LLC, has applied to the BLM for a coal exploration license on public land adjacent to its Rawhide Coal Mine. The purpose of the exploration program is to obtain structural and quality information about the coal. The BLM regulations at 43 CFR 3410 require the publication of an invitation to participate in the coal exploration in the Federal Register. The Federal coal resources included in the exploration license application are located in the following described lands in Wyoming:

6th Principal Meridian

T. 51 N., R. 72 W.,

Sec. 7, lots 5 through 20 inclusive;

Sec. 8, lots 2 through 6 inclusive;

T. 51 N., R. 73 W.,

Sec. 12, lots 1, 2, 6 through 8 inclusive, 13, 14, and SE¼NE¼

Containing 1,368.63 acres, more or less, in Campbell County.

The proposed exploration program is fully described in, and will be conducted pursuant to, an exploration plan to be approved by the BLM.

Authority: 43 CFR 3410.2-1(c)(1).

Donald A. Simpson,
State Director.

[FR Doc. 2011-13471 Filed 5-31-11; 8:45 am]

BILLING CODE 4310-22-P